DEPARTMENT OF HEALTH AND HUMAN SERVICES

Amended Charter of the National Biodefense Science Board (Hereinafter Referred to as the “National Preparedness and Response Science Board”)

AGENCY: Office of the Secretary, Department of Health and Human Services.

ACTION: Notice.

SUMMARY: As stipulated by the Federal Advisory Committee Act, the Department of Health and Human Services is hereby giving notice that the National Biodefense Science Board has amended its charter to comply with amendments made to section 319M of the Public Health Service (PHS) Act, 42 U.S.C. 247d-7f, by section 404 of the Pandemic and All Hazards Preparedness Reauthorization Act (PAHPRA) of 2013, Public Law 113-5; and formally change the name of the Board from the National Biodefense Science Board to the NATIONAL PREPAREDNESS AND RESPONSE SCIENCE BOARD.

DATES: Effective Date: April 16, 2014.

FOR FURTHER INFORMATION CONTACT: Please submit an inquiry via the NBSB Contact Form located at www.phe.gov/NBSBComments

SUPPLEMENTARY INFORMATION: Established on December 19, 2006, the Board has proven to be an invaluable tool for providing expert advice and guidance to the Secretary of the U.S. Department of Health and Human Services (hereafter referred to as the Secretary) and ASPR on scientific, technical, and other matters of special interest to the Department of Health and Human Services (hereinafter referred to as the Department) regarding current and future chemical, biological, nuclear, and radiological agents, whether naturally occurring, accidental, or deliberate, in addition to other matters related to public health emergency preparedness and response.

Background: The Board is authorized under Section 319M of the PHS Act (42 U.S.C. 247d-7f) as added by section 402 of the Pandemic and All-Hazards Preparedness Act (PAHPA) of 2006 and amended by section 404 of PAHPRA, and Section 222 of the PHS Act (42 U.S.C. 217a). The Board is governed by the Federal Advisory Committee Act (5 U.S.C. App.), which sets forth standards for the formation and use of advisory committees.

Signed into law on March 13, 2013, PAHPRA reauthorized key portions of the PHS Act initially enacted under the PAHPA and enhanced authorities of the Department for preparedness and response. Among other things, PAHPRA amended Departmental authorities to require greater consideration for the unique medical needs of at-risk populations (e.g., children, pregnant women, persons with disabilities, seniors, and others identified by the Secretary) in preparedness and response, especially with respect to countermeasures. PAHPRA also amended and added authorities to reinforce the invaluable role of state, tribal, territorial and local officials in optimizing a comprehensive, coordinated and flexible response to public health emergencies. As required by PAHPRA, the charter now states that Board membership includes a representative with pediatric expertise and a State, tribal, territorial, or local public health official, and that Board duties include providing specified information to appropriate committees of Congress.

The new name more accurately reflects the Board's contributions to fulfilling the Department's and ASPR's mission in preparedness and response, the range of expertise of its members, and the broad scope of subject areas on which it opines. The new name reflects the existing functions of the Board as carried out under both authorizing statutes.

Dated: April 25, 2014.
Nicole Lurie,
Assistant Secretary for Preparedness and Response.

[FR Doc. 2014-10040 Filed 5-1-14; 8:45 am]

BILLING CODE P